CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled The Civic Engagement and Volunteering Supplement for review and approval in accordance with the Paperwork Reduction Act of 1995. Copies of this ICR, with applicable supporting documentation, may be obtained by calling the Corporation for National and Community Service, Anthony Nerino, at 202-606-3913 or email to anerino@cns.gov. Individuals who use a telecommunications device for the deaf (TTY-TDD) may call 1-800-833-3722 between 8:00 a.m. and 8:00 p.m. Eastern Time, Monday through Friday.

DATES: Comments may be submitted, identified by the title of the information collection activity, within June 12, 2017.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on February 8, 2017 at Vol. 82, No. 25, FR 9726-9727. This comment period ended April 10, 2017. No public comments were received from this Notice.

Description: This information collection will be used to generate civic health reports at the National, State, and Metropolitan Statistical Area (MSA) levels and to disseminate these data to various stakeholders including state and local government offices, researchers, students and civic groups for strategic planning, grant writing purposes and research.

Type of Review: New.

Agency: Corporation for National and Community Service.

Title: Civic Engagement and Volunteering Supplement.

OMB Number: TBD.

Agency Number: None.

Affected Public: U.S. Residents 16 years of age and older.

Total Respondents: Approximately U.S. 90,000 residents.

Frequency: Bi-annually.

Average Time per Response: 5.26 minutes.

Estimated Total Burden Hours: 7,890 hours.

Total Burden Cost (capital/startup): None.

Total Burden Cost (operating/maintenance): None.

Dated: May 8, 2017.
Mary Hyde,
Director, Office of Evaluation and Research.

[FR Doc. 2017-09587 Filed 5-10-17; 8:45 am]

BILLING CODE 6050-28-P